DEPARTMENT OF JUSTICE

Antitrust Division

Notice Pursuant to the National Cooperative Research and Production Act of 1993—Telemanagement Forum

Notice is hereby given that, on May 19, 2020, pursuant to Section 6(a) of the National Cooperative Research and Production Act of 1993, 15 U.S.C. 4301 et seq. (“the Act”), TM Forum, A New Jersey Non-Profit Corporation (“The Forum”) filed written notifications simultaneously with the Attorney General and the Federal Trade Commission disclosing changes in its membership. The notifications were filed for the purpose of extending the Act's provisions limiting the recovery of antitrust plaintiffs to actual damages under specified circumstances.

Specifically, the following entities have become members of the Forum: Optiva Inc., Mississauga, CANADA; International Free and Open Source Solutions Foundation, Pleasanton, CA; Future Internet Consulting and Development Solutions S.L., Madrid, SPAIN; Ulster University, Newtownabbey, UNITED KINGDOM; MDS Global Ltd, Warrington, UNITED KINGDOM; Eastwind, Ekaterinburg, RUSSIA; Triple-Innovations Ltd, Zagreb, CROATIA; SoftBank Corp, Minato-ku, JAPAN; Brightcomms, Miami, FL; ONIS Solutions, San Pedro Garza García, MEXICO; Nile University, Giza, EGYPT; Calicsi LTD, MUSCAT, OMAN; Tekpaths, Riyadh, SAUDI ARABIA; Sorbonne University, Paris, FRANCE; Sarathi Softech Pvt. Ltd., Pune, INDIA; TÜBITAK BILGEM Software Research Technologies Institute, Gebze, TURKEY; Scorecard Systems Inc., Stouffville, CANADA; Red Dawn Consulting, Northwood, UNITED KINGDOM; Meiji University, Tokyo, JAPAN; Vanrise Solutions, Beirut, LEBANON; OmniSci, San Francisco, CA; Consilience Technologies, Naperville, IL; Bartr Technologies Limited, Birmingham, UNITED KINGDOM; Avistas, Irving, TX; AWTG Ltd, London, UNITED KINGDOM; Creativity Software, Kingston upon Thames, UNITED KINGDOM; Compax Software Development GmbH, Vienna, AUSTRIA; SATEC GROUP, Madrid, SPAIN; Software AG (UK) Ltd, Derby, UNITED KINGDOM; Norconsult Telematics, Riyadh, SAUDI ARABIA; Symbox Ltd, Theale, UNITED KINGDOM; Telecom Egypt, Giza, EGYPT.

Also, the following members have changed their names: OSSEra, Inc. to OSSEra, Sacramento, CA; GCI to GCI Communication Corp, Anchorage, AK; Torry Harris Integrated Solutions Pvt Ltd to Torry Harris Integration Solutions, Bangalore, INDIA; Mahindra Comviva to Comviva, Haryana, INDIA.

In addition, the following parties have withdrawn as parties to this venture: BASE Company, Brussels, BELGIUM; Biplus Vietnam Software Solution JSC, Hanoi, VIETNAM; Business-intelligence of Oriental Nations Corporation Ltd., Beijing, PEOPLES' REPUBLIC OF CHINA; China Mobile Online Service Company Limited Yunnan Branch, Kunming, PEOPLES' REPUBLIC OF CHINA; Clementvale, Dublin, IRELAND; Corporate Software, Casablanca, MOROCCO; Couchbase Limited, London, UNITED KINGDOM; Emersion Software, Melbourne, AUSTRALIA; ePLDT Inc., Makati City, PHILIPPINES; gen-E, Irvine, CA; Mercato, Birmingham, UNITED KINGDOM; NetYCE, Amsterdam, NETHERLANDS; Optix Pakistan (Pvt.) Limited, Lahore, PAKISTAN; Polaris Technology, Amman, JORDAN; SAS Institute, Inc, Cary, NC; Sitronics Telecom Solutions Co. (Pvt.) Ltd, Lahore, PAKISTAN; Synchronoss Technologies, Inc., Bridgewater, NJ; Tawhiri Networks, Brewster, NY; Tel Aviv University—Urban Innovation and Sustainability Lab, Tel Aviv, ISRAEL; Telecom Personal (Paraguay), Asuncion, PARAGUAY; Telenet NV, Mechelen, BELGIUM; Tempest IT services a. s., Bratislava, SLOVAKIA; Unitel one source limited, London, UNITED KINGDOM; VenKizmet PERU SAC, Lima, PERU; Virgin Media, Hook, UNITED KINGDOM; Wavelength Communications Ltd, St Albans, UNITED KINGDOM.

No other changes have been made in either the membership or planned activity of the group research project. Membership in this group research project remains open and The Forum intends to file additional written notifications disclosing all changes in membership.

On October 21, 1988, The Forum filed its original notification pursuant to Section 6(a) of the Act. The Department of Justice published a notice in the Federal Register pursuant to Section 6(b) of the Act on December 8, 1988 (53 FR 49615).

The last notification was filed with the Department on January 14, 2020. A notice was published in the Federal Register pursuant to Section 6(b) of the Act on February 5, 2020 (85 FR 6575).

Suzanne Morris,
Chief, Premerger and Division Statistics, Antitrust Division.

[FR Doc. 2020-13171 Filed 6-17-20; 8:45 am]

BILLING CODE 4410-11-P